DEPARTMENT OF HEALTH AND HUMAN SERVICES

National Institutes of Health

Workshop on Shift Work at Night, Artificial Light at Night, and Circadian Disruption; Notice of Public Meeting; Registration Information; Amended Notice

SUMMARY: This notice amends Federal Register notice 81 FR 7354 published February 11, 2016, announcing the public meeting and registration information for the Workshop on Shift Work at Night, Artificial Light at Night, and Circadian Disruption. Registration is available to attend the workshop in-person both March 10 and March 11 and will close prior to March 4 if space capacity at NIEHS is reached. Registration to view the webcast is requested, but not required. All other information in the original notice has not changed. Information on the workshop and registration is available at http://ntp.niehs.nih.gov/go/workshop_ALAN.

DATES: Meeting Registration: February 1, 2016 through March 4, 2016. Registration to attend the workshop in-person is now available for March 10 and 11, and will close prior to March 4 if space capacity at NIEHS is reached. The webcast will still be available on both March 10 and 11. Registration to view the workshop via webcast will remain open through March 11, 2016.

Dated: February 29, 2016.
John R. Bucher,
Associate Director, National Toxicology Program.

[FR Doc. 2016-04902 Filed 3-4-16; 8:45 am]

BILLING CODE 4140-01-P